DEPARTMENT OF JUSTICE

[OMB Number 1110-0064]

Agency Information Collection Activities; Proposed eCollection eComments Requested; Revision of a Previously Approved Collection; FBI Expungement and Sealing Form (FD-1114)

AGENCY: Criminal Justice Information Services (CJIS) Division, Federal Bureau of Investigation (FBI), Department of Justice.

ACTION: 60-Day notice.

SUMMARY: The CJIS Division, FBI, DOJ, will be submitting the following information collection request to the Office of Management and Budget (OMB) for review and approval in accordance with the Paperwork Reduction Act of 1995.

DATES: Comments are encouraged and will be accepted for 60 days until March 10, 2025.

FOR FURTHER INFORMATION CONTACT: If you have additional comments especially on the estimated public burden or associated response time, suggestions, or need a copy of the proposed information collection instrument with instructions or additional information, please contact: Brian A. Cain, Management and Program Analyst, FBI, CJIS, Criminal History Information and Policy Unit, BTC-3, 1000 Custer Hollow Road, Clarksburg, WV 26306; phone: 304-625-5590 or email bacain@fbi.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so, how the quality, utility, and clarity of the information to be collected can be enhanced; and

—Minimize the burden of the collection of information on those who are to respond, including through the use of appropriate automated, electronic, mechanical, or other technological collection techniques or other forms of information technology, e.g., permitting electronic submission of responses.

Abstract: It is essential the FBI Expungement Form (FD-1114) be utilized for the CJIS Division, to assure identity history information is collected, stored, removed and thus, disseminated in a manner to ensure accuracy, completeness, currency, integrity, and security of such information to protect individual privacy and provide maximum service to all law enforcement and governmental agencies. All of which is imposed on the FBI, CJIS Division, by 28 CFR 20.1.

Overview of This Information Collection

1. Type of Information Collection: Revision of a previously approved collection.

2. The Title of the Form/Collection: FBI Expungement and Sealing Form.

3. The agency form number, if any, and the applicable component of the Department sponsoring the collection: (FD-1114); CJIS, FBI, DOJ.

4. Affected public who will be asked or required to respond, as well as the obligation to respond: Affected Public: State, local and tribal governments, Federal Government. The obligation to respond is required to mandatory per 28 CFR 20.37 as agencies contributing data to the NGI System are responsible for accuracy, completeness, currency, and integrity.

5. An estimate of the total number of respondents and the amount of time estimated for an average respondent to respond: The estimated number of yearly responses for the FBI Expungement and Sealing Form (FD-1114) is 147,610. The estimated time to complete the form is 3.5 minutes.

6. An estimate of the total annual burden (in hours) associated with the collection: The estimated annual burden hours for this collection is 8,611 hours. (147,610 responses × 3.5 minutes/60 = 8611 hours.

7. An estimate of the total annual cost burden associated with the collection, if applicable: N/A.

Total Burden Hours
Activity | Number of respondents | Frequency (annually) | Total annual responses | Time per response (min) | Total annual burden (hours)
Ex: Survey (individuals or households) | 147,610 | 1 | 147,610 | 3.5 | 8,611
Unduplicated Totals | 147,610 |  | 147,610 |  | 8,611

If additional information is required contact: Darwin Arceo, Department Clearance Officer, United States Department of Justice, Justice Management Division, Policy and Planning Staff, Two Constitution Square, 145 N Street NE, 4W-218, Washington, DC.

Dated: December 31, 2024.
Darwin Arceo,
Department Clearance Officer for PRA, U.S. Department of Justice.

[FR Doc. 2024-31782 Filed 1-6-25; 8:45 am]

BILLING CODE 4410-02-P